NUCLEAR REGULATORY COMMISSION

[NRC-2014-0064]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from March 6, 2014, to March 19, 2014. The last biweekly notice was published on March 18, 2014.

DATES: Comments must be filed by May 1, 2014. A request for a hearing must be filed by June 2, 2014.

ADDRESSES: You may submit comments by any of the following methods (unless this document describes a different method for submitting comments on a specific subject):

• Federal Rulemaking Web site: Go to http://www.regulations.gov and search for Docket ID NRC-2014-0064. Address questions about NRC dockets to Carol Gallagher; telephone: 301-287-3422; email: Carol.Gallagher@nrc.gov. For technical questions, contact the individual listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Janet Burkhardt, Office of Nuclear Reactor Regulation, U.S. Nuclear Regulatory Commission, Washington DC 20555-0001; telephone: 301-415-1384, email: janet.burkhardt@nrc.gov.

SUPPLEMENTARY INFORMATION:

I. Accessing Information and Submitting Comments

A. Accessing Information

Please refer to Docket ID NRC-2014-0064 when contacting the NRC about the availability of information regarding this document. You may access publicly-available information related to this document by any of the following methods:

• Federal Rulemaking Web site: Go to http://www.regulations.gov and search for Docket ID NRC-2014-0064.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2014-0064 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave to Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding. Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Accessing Information and Submitting Comments” section of this document.

Duke Energy Carolinas, LLC, Docket Nos. 50-369 and 50-370, McGuire Nuclear Station, Units 1 and 2, Mecklenburg County, North Carolina

Date of amendment request: January 28, 2014.

Description of amendment request: The proposed amendment revises an error made during McGuire's conversion to standard technical specifications (TSs) in TS 3.4.12. Condition G incorrectly references Condition E. As currently written, TS 3.4.12 Required Actions F.2 and G.1 collectively require that an operable residual heat removal (RHR) suction relief valve be aligned within 1 hour and that a reactor coolant system (RCS) vent path greater than 2.75 square inches be established within 8 hours if one of two Power Operated Relief Valves (PORVs) is inoperable in accordance with Condition E. As such, the proposed license amendment request revises Condition G to eliminate the reference to Condition E on the basis that the alignment of an operable RHR relief valve is sufficient to compensate for the loss of one PORV.

Basis for proposed no significant hazards consideration determination: As required by 10 CFR 50.91(a), the licensee has provided its analysis of the issue of no significant hazards consideration, which is presented below:

Criterion 1: Does the proposed amendment involve a significant increase in the probability or consequences of an accident previously evaluated?

Response: No.

The proposed change has no effect on the probability or consequences of an accident previously evaluated since adequate low temperature overpressure protection [(LTOP)] of the RCS is being maintained.

Therefore, the proposed change does not involve a significant increase in the probability or consequences of an accident previously evaluated.

Criterion 2: Does the proposed amendment create the possibility of a new or different kind of accident from any accident previously evaluated?

Response: No.

The proposed change does not involve the addition or modification of any plant equipment. The proposed change does not involve a change in the operational limits or the design capabilities of the LTOP system. The LTOP system remains capable of protecting the RCS against low temperature overpressurization.

Therefore, the proposed change does not create the possibility of a new or different kind of accident from any accident previously evaluated.

Criterion 3: Does the proposed amendment involve a significant reduction in the margin of safety?

Response: No.

Margin of safety is related to the confidence in the ability of the fission product barriers to perform their design functions during and following an accident situation. These barriers include the fuel cladding, the reactor coolant system, and the containment system. The performance of the fuel cladding, the reactor coolant system and the containment system will not be adversely impacted by the proposed change since the ability of the LTOP system to prevent a challenge to the integrity of a fission product barrier has not been adversely impacted by the proposed change.

Therefore, the proposed change does not involve a significant reduction in the margin of safety.

Based on the above, Duke Energy concludes that the proposed amendment does not involve a significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202

NRC Branch Chief: Robert J. Pascarelli.

Entergy Operations, Inc., Docket No. 50-313, Arkansas Nuclear One, Unit 1, Pope County, Arkansas

Date of amendment request: June 11, 2013.

Description of amendment request: Entergy Operations, Inc., has requested an amendment to the Arkansas Nuclear One, Unit 1 (ANO-1) Technical Specification (TS) 2.1.1.1, to add the determination of the maximum local fuel pin centerline temperature using NRC reviewed and approved COPERNIC fuel performance computer code. The ANO-1 TSs currently provide similar information for other fuel performance computer codes.

Basis for proposed no significant hazards consideration determination: As required by 10 CFR 50.91(a), the licensee has provided its analysis of the issue of no significant hazards consideration, which is presented below:

1. Does the proposed change involve a significant increase in the probability or consequences of an accident previously evaluated?

Response: No.

The proposed change does not require any physical change to any plant systems, structures, or components, nor does it require any change in systems or plant operations. The proposed change does not require any change in safety analysis methods or results. Operations and analysis will continue to be in accordance with the ANO-1 licensing basis. The peak fuel centerline temperature is the basis for protecting the fuel and is consistent with safety analysis.

Therefore, the proposed change does not involve a significant increase in the probability or consequences of an accident previously evaluated.

2. Does the proposed change create the possibility of a new or different kind of accident from any accident previously evaluated?

Response: No.

The proposed change adds a new fuel centerline melt temperature versus burnup relationship based on an NRC reviewed and approved fuel performance computer code. The accident analyses presented in the ANO-1 Safety Analysis Report indicate that the fuel centerline temperature is not approached or exceeded for any of the events or Anticipated Operational Occurrences. The existing analyses, which are unchanged, do not affect any accident initiators that would create a new accident.

Therefore, the proposed change does not create the possibility of a new or different kind of accident from any previously evaluated.

3. Does the proposed change involve a significant reduction in a margin of safety?

Response: No.

The proposed change does not require any change in safety analysis methods or results. Therefore, by adding the fuel centerline temperature and burnup relationship as defined by the COPERNIC code to the TS, the margin as established with the ANO-1 TS and SAR [Safety Analyses Report] are unchanged.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Entergy Operations, Inc., Docket No. 50-313, Arkansas Nuclear One, Unit 1, Pope County, Arkansas

Date of amendment request: December 20, 2013, as supplemented by March 11, 2014.

Description of amendment request: The amendment would allow for the extension to the 10-year frequency of the Arkansas Nuclear One, Unit 1 (ANO-1) Type A or Integrated Leak Rate Test (ILRT) that is required by ANO-1 Technical Specification (TS) 5.5.16, “Reactor Building Leakage Rate Testing Program,” to be extended to 15 years on a permanent basis.

Basis for proposed no significant hazards consideration determination: As required by 10 CFR 50.91(a), the licensee has provided its analysis of the issue of no significant hazards consideration, which is presented below:

1. Does the proposed change involve a significant increase in the probability or consequences of an accident previously evaluated?

Response: No.

The proposed amendment involves changes to the ANO-1 Reactor Building Leakage Rate Testing Program. The proposed amendment does not involve a physical change to the plant or a change in the manner in which the plant is operated or controlled. The primary reactor building function is to provide an essentially leak tight barrier against the uncontrolled release of radioactivity to the environment for postulated accidents. As such, the reactor building itself and the testing requirements to periodically demonstrate the integrity of the reactor building exist to ensure the plant's ability to mitigate the consequences of an accident, do not involve any accident precursors or initiators. Therefore, the probability of occurrence of an accident previously evaluated is not significantly increased by the proposed amendment.

The integrity of the reactor building is subject to two types of failure mechanisms which can be categorized as (1) activity based and (2) time based. Activity based failure mechanisms are defined as degradation due to system and/or component modifications or maintenance. Local leak rate test requirements and administrative controls such as configuration management and procedural requirements for system restoration ensure that the reactor building containment integrity is not degraded by plant modifications or maintenance activities. The design and construction requirements of the reactor building itself combined with the reactor building inspections performed in accordance with ASME [American Society of Mechanical Engineers Boiler and Pressure Vessel Code], Section XI, the Maintenance Rule and regulatory commitments serve to provide a high degree of assurance that the containment will not degrade in a manner that is detectable only by a Type A test. Based on the above, the proposed amendment does not involve a significant increase in the consequences of an accident previously evaluate.

The proposed amendment adopts the NRC-accepted guidelines of [Nuclear Energy Institute] NEI 94-01, Revision 3-A, [“Industry Guideline for Implementing Performance-Based Option of 10 CFR Part 50, Appendix J”] for development of the ANO-1 performance-based testing program. Implementation of these guidelines continues to provide adequate assurance that during design basis accidents, the primary containment and its components will limit leakage rates to less the values assumed in the plant safety analyses. The potential consequences of extending the ILRT interval to 15 years have been evaluated by analyzing the resulting changes in risk. The increase in risk in terms of person-rem per year within 50 miles resulting from design basis accidents was estimated to be acceptably small and determined to be within the guidelines published in [NRC Regulatory Guide (RG) 1.174, “An Approach for using Probabilistic Risk Assessment in Risk-Informed Decisions on Plant-Specific Changes to the Licensing Bases”].

Additionally, the proposed change maintains defense-in-depth by preserving a reasonable balance among prevention of core damage, prevention of containment failure, and consequence mitigation. ANO-1 has determined that the increase in Conditional Containment Failure Probability due to the proposed change would be very small. Therefore, it is concluded that the proposed amendment does not significantly increase the consequences of an accident previously evaluated.

Based on the above discussion, it is concluded that the proposed change does not involve a significant increase in the probability or consequences of an accident previously evaluated.

2. Does the proposed change create the possibility of a new or different kind of accident from any accident previously evaluated?

Response: No.

The proposed amendment adopts the NRC-accepted guidelines of NEI 94-01, Revision 3-A, for the development of the ANO-1 performance-based leakage testing program, and establishes a 15-year interval for the performance of the reactor building ILRT. The reactor building and the testing requirements to periodically demonstrate the integrity of the reactor building exist to ensure the plant's ability to mitigate the consequences of an accident, do not involve any accident precursors or initiators. The proposed change does not involve a physical change to the plant (i.e., no new or different type of equipment will be installed) or a change to the manner in which the plant is operated or controlled.

Therefore, the proposed change does not create the possibility of a new or different kind of accident from any previously evaluated.

3. Does the proposed change involve a significant reduction in a margin of safety?

Response: No.

The proposed amendment adopts the NRC-accepted guidelines of NEI 94-01, Revision 3-A, for the development of the ANO-1 performance-based leakage testing program, and establishes a 15 year interval for the performance of the containment ILRT. This amendment does not alter the manner in which safety limits, limiting safety system setpoints, or limiting conditions for operation are determined. The specific requirements and conditions of the Reactor Building Leakage Rate Testing Program, as defined in the TS, ensure that the degree of the reactor building structural integrity and leak-tightness that is considered in the plant's safety analysis is maintained. The overall reactor building leakage rate limit specified by the TS is maintained, and the Type A, Type B, and Type C containment leakage tests will be performed at the frequencies established in accordance with the NRC-accepted guidelines of NEI 94-01, Revision 3-A.

Containment inspections performed in accordance with other plant programs serve to provide a high degree of assurance that the containment will not degrade in a manner that is not detectable by an ILRT. A risk assessment using the current ANO-1 risk model concluded that extending the ILRT test interval from ten years to 15 years results in an acceptably small change to the ANO-1 risk profile.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Exelon Generation Company, LLC, Docket Nos. STN 50-456 and STN 50-457, Braidwood Station, Units 1 and 2, Will County, Illinois

Docket Nos. STN 50-454 and STN 50-455, Byron Station, Units 1 and 2, Ogle County, Illinois

Date of amendment request: August 21, 2013.

Description of amendment request: The proposed amendment would revise technical specifications (TS) Section 3.7.2, “Main Steam Isolation Valves (MSIVs),” to incorporate the MSIV actuator trains into the Limiting Condition for Operation (LCO) and provide associated Conditions and Required Actions. The proposed amendment would also revise surveillance requirement (SR) 3.7.2.2 to identify that the MSIV actuator trains are required to be tested.

Basis for proposed no significant hazards consideration determination: As required by 10 CFR 50.91(a), the licensee has provided its analysis of the issue of no significant hazards consideration, which is presented below:

EGC [Exelon Generation Company, LLC] has evaluated whether or not a significant hazards consideration is involved with the proposed amendment by focusing on the three standards set forth in 10 CFR 50.92(c), “Issuance of amendment,” as discussed below:

1. Does the proposed amendment involve a significant increase the probability or consequences of an accident previously evaluated?

Response: No.

The proposed changes provide requirements for MSIVs that have dual actuators which receive signals from separate instrumentation trains. The design and functional performance requirements, operational characteristics, and reliability of the MSIVs and actuator trains are unchanged. There is no impact on the design safety function of the MSIVs to close (as an accident mitigator), nor is there any change with respect to inadvertent closure of an MSIV (as a potential transient initiator). Since no failure mode or initiating condition that could cause an accident (including any plant transient) is created or affected, the change cannot involve a significant increase in the probability of an accident previously evaluated.

With regard to the consequences of an accident and the equipment required for mitigation of the accident, the proposed changes involve no design or physical changes to the MSIVs or any other equipment required for accident mitigation. With respect to MSIV actuator train Completion Times, the consequences of an accident are independent of equipment Completion Times as long as adequate equipment availability is maintained. The proposed MSIV actuator Completion Times take into account the redundancy of the actuator trains and are limited in extent consistent with other Completion Times specified in the Technical Specifications. Adequate equipment availability would therefore continue to be required by the Technical Specifications. On this basis, the consequences of applicable, analyzed accidents are not significantly affected by the proposed changes.

Therefore, the proposed changes do not involve a significant increase in the probability or consequences of an accident previously evaluated.

2. Does the proposed amendment create the possibility of a new or different kind of accident from any accident previously evaluated?

Response: No.

The proposed changes to incorporate requirements for the MSIV actuator trains do not involve any design or physical changes to the facility, including the MSIVs and actuator trains themselves. No physical alteration of the plant is involved, as no new or different type of equipment is to be installed. The proposed changes do not alter any assumptions made in the safety analyses, nor do they involve any changes to plant procedures for ensuring that the plant is operated within analyzed limits. As such, no new failure modes or mechanisms that could cause a new or different kind of accident from any previously evaluated are being introduced.

Therefore, the proposed changes do not create the possibility of a new or different kind of accident from any accident previously evaluated.

3. Does the proposed amendment involve a significant reduction in [a] margin of safety?

Response: No.

The proposed changes to incorporate requirements for the MSIV actuator trains do not alter the manner in which safety limits or limiting safety system settings are determined. No changes to instrument/system actuation setpoints are involved. The safety analysis acceptance criteria are not affected by this change and the proposed changes will not permit plant operation in a configuration outside the design basis.

Therefore, the proposed changes do not involve a significant reduction in a margin of safety.

Based on the above, EGC concludes that the proposed amendments do not involve a significant hazards consideration under the standards set forth in 10 CFR 50.92(c), and, accordingly, a finding of no significant hazards consideration is justified.

The NRC staff has reviewed the licensee's analysis and, based on this review, it appears that the three standards of 10 CFR 50.92(c) are satisfied. Therefore, the NRC staff proposes to determine that the requested amendments involve no significant hazards consideration.

Attorney for licensee: J. Bradley Fewell, Associate General Counsel, Exelon Nuclear, 4300 Winfield Road, Warrenville, IL 60555.

NRC Branch Chief: Travis L. Tate.

Exelon Generation Company, LLC, Docket Nos. 50-352 and 50-353, Limerick Generating Station, Units 1 and 2, Montgomery County, Pennsylvania

Date of amendment request: December 6, 2013.

Description of amendment request: The proposed amendment would revise Technical Specification (TS) setpoints and allowable values for certain area temperature instrumentation associated with the leak detection system (LDS). The purpose of the LDS is to detect and provide the signals necessary to isolate leakage from the reactor coolant pressure boundary (RCPB) before pre-determined limits are exceeded. The affected TS instrumentation monitor ambient temperature in the reactor water cleanup system (RWCS) area, the high pressure coolant injection (HPCI) equipment room and pipe routing area, and the reactor core isolation cooling (RCIC) equipment room and pipe routing area. The temperature setpoints, for the LDS instrumentation described above, are established to provide system isolations in the event of a postulated 25 gallon per minute (gpm) steam leak.

The proposed amendment would also change the leakage design basis from 25 gpm to 35 gpm for the turbine enclosure main steam line tunnel temperature isolation setpoint (the setpoint of this instrumentation is not being changed).

The licensee's amendment request indicated that the proposed changes are being made in order to establish adequate margins such that normal variations in the maximum operating temperatures for the affected plant areas do not result in system isolation.

Basis for proposed no significant hazards consideration determination: As required by 10 CFR 50.91(a), the licensee has provided its analysis of the issue of no significant hazards consideration. The NRC staff has reviewed the licensee's analysis against the standards of 10 CFR 50.92(c). The staff's review is presented below:

1. Does the proposed amendment involve a significant increase in the probability or consequences of an accident previously evaluated?

Response: No.

The LDS is a mitigating system for low energy line breaks or leakage. The LDS includes ambient temperature instrumentation with setpoints established to provide for system isolation in the event of a small steam leak (e.g., 25 gpm).

The proposed changes will not alter the way any structure, system, or component (SSC) functions, and will not alter the manner in which the plant is operated. The proposed changes do not impact any SSC that could cause an accident. Therefore, the proposed amendment will not increase the probability of occurrence of an accident previously evaluated in the Updated Final Safety Analysis Report (UFSAR).

The design basis leakage values for the LDS will remain bounded by the design basis accident analysis analyzed in the UFSAR for a main steam line break (MSLB). In addition, the proposed amendment will not impact the ability of any SSC to mitigate an accident as currently evaluated in the UFSAR. Therefore, the proposed amendment will not increase the consequences of an accident previously evaluated in the UFSAR.

Based on the above, the proposed changes will not increase the probability or consequences of an accident previously evaluated.

2. Does the proposed amendment create the possibility of a new or different kind of accident from any accident previously evaluated?

Response: No.

The proposed changes will not alter the plant configuration (no new or different type of equipment will be installed). The proposed changes will not change the design function of any SSC, and will not alter the manner in which the plant is operated. There will be no adverse effect on plant operation or accident mitigation equipment. The response of the plant and the operators following an accident will not be different. In addition, the proposed changes do not introduce any new failure modes.

Therefore, the proposed changes will not create the possibility of a new or different kind of accident from any accident previously evaluated.

3. Does the proposed amendment involve a significant reduction in a margin of safety?

Response: No.

Margin of safety is related to the confidence in the ability of the fission product barriers (i.e., fuel cladding, RCPB, and containment) to limit the level of radiation dose to the public.

The proposed changes have no impact on the fuel cladding or containment. With respect to the RCPB, the proposed changes to the TS setpoints and allowable values for the RWCS, HPCI, and RCIC instrumentation will be established to provide system isolations in the event of a postulated 25 gpm steam leak. The 25 gpm leakage value is the current design basis value. As such, the proposed TS changes have no impact on the current assumptions regarding the ability of the LDS to isolate leakage from the RCPB.

The proposed amendment would also change the leakage design basis from 25 gpm to 35 gpm for the turbine enclosure main steam line tunnel temperature isolation setpoint. However, the licensee's application indicated that the increase in total coolant loss as a result of a change in the leak detection setpoint design basis from 25 gpm to 35 gpm is insignificant compared to the bounding analysis for the analyzed MSLB.

Based on the above, the proposed changes will not result in a reduction in a margin of safety.

Based on this review, it appears that the three standards of 10 CFR 50.92(c) are satisfied. Therefore, the NRC staff proposes to determine that the amendment request involves no significant hazards consideration.

Attorney for licensee: J. Bradley Fewell, Associate General Counsel, Exelon Nuclear, 4300 Winfield Road, Warrenville, IL 60555.

Acting NRC Branch Chief: John D. Hughey.

Exelon Generation Company, LLC, Docket No. 50-352 and No. 50-353, Limerick Generating Station, Units 1 and 2, Montgomery County, Pennsylvania

Exelon Generation Company, LLC, et al., Docket No. 50-219, Oyster Creek Nuclear Generating Station, Ocean County, New Jersey

Exelon Generation Company, LLC, and PSEG Nuclear LLC, Docket Nos. 50-171, 50-277, and 50-278, Peach Bottom Atomic Power Station, Units 1, 2 and 3, York and Lancaster Counties, Pennsylvania

Exelon Generation Company, LLC, Docket No. 50-289 and 50-320, Three Mile Island Nuclear Station, Units 1 and 2, Dauphin County, Pennsylvania

Date of amendment request: October 30, 2013.

Description of amendment request: The proposed change would revise the Emergency Response Organization (ERO) requalification training frequency for the affected facilities.

Basis for proposed no significant hazards consideration determination: As required by 10 CFR 50.91(a), an analysis of the issue of no significant hazards consideration is presented below:

1. Does the proposed amendment involve a significant increase in the probability or consequences of an accident previously evaluated?

Response: No.

The proposed change does not increase the probability or consequences of an accident. The proposed change does not involve the modification of any plant equipment or affect plant operation. The proposed change will have no impact on any safety-related Structures, Systems, or Components. The proposed change would revise the ERO annual requalification training frequency.

Therefore, the proposed change to the Emergency Plan requalification training frequency for the affected sites does not involve a significant increase in the probability or consequences of an accident previously evaluated.

2. Does the proposed amendment create the possibility of a new or different kind of accident from any accident previously evaluated?

Response: No.

The proposed change has no impact on the design, function, or operation of any plant systems, structures, or components. The proposed change does not affect plant equipment or accident analyses. The proposed change only affects the administration aspects of the annual emergency response organization requalification training frequency requirements. There are no changes to the actual training conducted.

Therefore, the proposed change to the Emergency Plan requalification training frequency for the affected sites does not create the possibility of a new or different kind of accident from any accident previously evaluated.

3. Does the proposed amendment involve a significant reduction in a margin of safety?

Response: No.

The proposed change does not adversely affect existing plant safety margins or the reliability of the equipment assumed to operate in the safety analyses. There is no change being made to safety analysis assumptions, safety limits, or limiting safety system settings that would adversely affect plant safety as a result of the proposed change. Margins of safety are unaffected by the proposed change to the frequency in the ERO requalification training requirements.

Therefore, the proposed change to the Emergency Plan requalification training frequency for the affected sites does not involve a significant reduction in a margin of safety.

Based on the above analysis, the NRC staff proposes to determine that the requested amendments involve no significant hazards consideration.

Attorney for licensee: J. Bradley Fewell, Associate General Counsel, Exelon Nuclear, 4300 Winfield Road, Warrenville, IL 60555.

NRC Branch Chief: Travis L. Tate.

PSEG Nuclear LLC, Docket No. 50-354, Hope Creek Generating Station, Salem County, New Jersey

Date of amendment request: July 30, 2013.

Description of amendment request: The proposed amendment would revise the technical specifications (TS) to relocate the operability and surveillance requirements for the reactor coolant system safety/relief valve (SRV) position instrumentation from the Hope Creek Generating Station (Hope Creek) TS to the Hope Creek Technical Requirements Manual (TRM).

Basis for proposed no significant hazards consideration determination: As required by 10 CFR 50.91(a), the licensee has provided its analysis of the issue of no significant hazards consideration, which is presented below with the NRC staff's edits in square brackets:

1. Do the proposed changes involve a significant increase in the probability or consequences of an accident previously evaluated?

Response: No.

The proposed changes to the TS would relocate the operability and surveillance requirements for the SRV position instrumentation from the TS to the TRM. The failure of this instrumentation is not assumed to be an initiator of any analyzed event in the UFSAR [updated final safety analysis report]. The proposed changes do not alter the design of the SRVs or any other system, structure, or component (SSC). The proposed changes conform to NRC's regulatory [requirements] regarding the content of plant TS, as identified in 10 CFR 50.36, [and the regulatory guidance identified in] NUREG-1433, and [also conform with] the NRC's Final Policy Statement published on July 22, 1993 (58 FR 39132).

Therefore, these proposed changes do not represent a significant increase in the probability or consequences of an accident previously evaluated.

2. Do the proposed changes create the possibility of a new or different kind of accident from any accident previously evaluated?

Response: No.

The proposed changes to the TS would relocate the operability and surveillance requirements for the SRV position instrumentation from the TS to the TRM. The proposed changes do not involve a modification to the physical configuration of the plant or change in the methods governing normal plant operation. The proposed changes will not impose any new or different requirement or introduce a new accident initiator, accident precursor, or malfunction mechanism.

Additionally, there is no change in the types or increases in the amounts of any effluent that may be released off-site and there is no increase in individual or cumulative occupational exposure. Therefore, the proposed changes do not create the possibility of a new or different kind of accident from any accident previously evaluated.

3. Do the proposed changes involve a significant reduction in a margin of safety?

Response: No.

The proposed changes to the TS would relocate the operability and surveillance requirements for the SRV position instrumentation from the TS to the TRM. This instrumentation is not needed for manual operator action necessary for safety systems to accomplish their safety function for the design basis events. The SRV position instrumentation, including the acoustic monitors and the tailpipe temperature indicators, provides only alarm and position indication functions and does not provide an input to any automatic trip function.

Several diverse means are available to monitor SRV position, including the Suppression Pool Temperature Monitoring System. Operability and surveillance requirements will be established in a licensee-controlled document, the TRM, to ensure the reliability of SRV position monitoring capability. Changes to these requirements in the TRM will be subject to the provisions of 10 CFR 50.59, providing an appropriate level of regulatory control.

Therefore, the proposed changes do not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for licensee: Jeffrie J. Keenan, PSEG Nuclear, LLC—N21, P.O. Box 236, Hancocks Bridge, NJ 08038.

NRC Branch Chief: Meena K. Khanna.

South Carolina Electric and Gas Docket Nos.: 52-027 and 52-028, Virgil C. Summer Nuclear Station (VCSNS) Units 2 and 3, Burke County, Georgia

Date of amendment request: December 4, 2013.

Description of amendment request: The proposed changes would amend Combined License Nos. NPF-93 and NPF-94, for VCSNS Units 2 and 3, respectively, in regard to the Technical Specifications (TS). The proposed amendment updates the TS for operator usability that more closely aligns with the form and content of other improved Standard Technical Specifications NUREGs. Specifically, the changes would result in closer alignment with the guidance of the Technical Specifications Task Force (TSTF) Writer's Guide for Plant-Specific Improved Technical Specifications, TSTF-GG-05-01, Revision 1, and with NUREG-1431, Standard Technical Specifications-Westinghouse Plants as updated by the NRC-approved generic changes.

Basis for proposed no significant hazards consideration determination: As required under 10 CFR 50.91(a), the licensee has provided its analysis of the issue of no significant hazards consideration, which is presented below:

In accordance with the provisions of 10 CFR 50.90, South Carolina Electric & Gas Company (SCE&G) proposes to amend the VCSNS TS. Evaluations pursuant to 10 CFR 50.92 showing that the proposed changes do not involve significant hazards considerations are provided for each change.

However, due to the significant number of changes associated with the upgrade effort, SCE&G has grouped similar changes into categories to facilitate the significant hazards evaluations required by 10 CFR 50.92. Generic significant hazards evaluations are provided for the Administrative, More Restrictive, Relocation, and Detail Removed categories. Each individual Less Restrictive change is addressed by a specific significant hazards evaluation. Because of the large volume of changes, obvious editorial or administrative changes (e.g., formatting, page rolls, punctuation, etc.) have not always received an explicit discussion, but are considered to be addressed by the applicable generic significant hazards evaluation for Administrative changes.

Each significant change to the TS is marked-up on the appropriate page in Enclosure 2 of SCE&G's submittal and assigned a reference number reflective of the significant hazards evaluation type. The reference number assigned to a change is used in the Discussion of Change (DOC) in Enclosure 1 of SCE&G's submittal which provides a detailed description (basis) for each change supporting the applicable significant hazards evaluation in Attachment 6 of Enclosure 1 of SCE&G's submittal.

10 CFR 50.92 EVALUATION FOR ADMINISTRATIVE CHANGES

This generic category applies to changes that are editorial in nature, involve the movement of requirements within the TS without affecting their technical content, simply reformat a requirement or clarify the TS (such as deleting a footnote no longer applicable due to a technical change to a requirement). These changes also include non-technical modifications of requirements to conform to TSTF-GG-05-01, “Writer's Guide for Plant-Specific Improved Standard Technical Specifications,” or provide consistency with the Improved Standard Technical Specifications in NUREG-1431.

Changes to the TS requirements categorized as Administrative are annotated with an “A” in Enclosure 1 DOC and Enclosure 2 markup of SCE&G's submittal.

These changes are intended to make the TS more readily understandable to plant operators and other users. The application of the TS format and style will also assure consistency is achieved between TS. During this reformatting and rewording process, no technical changes (either actual or interpretational) were made to the TS unless they were identified and justified. Because of the large volume of changes, obvious editorial or administrative changes (e.g., formatting, page rolls, punctuation, etc.) do not always receive a DOC reference number but are considered to be addressed by this generic significant hazards evaluation for Administrative changes.

SCE&G proposes to amend the VCSNS Units 2 and 3, Technical Specifications. SCE&G has evaluated each of the proposed TS changes identified as Administrative in accordance with the criteria set forth in 10 CFR 50.92, “Issuance of amendment,” and has determined that the proposed changes do not involve a significant hazards consideration. This significant hazards consideration is applicable to each Administrative change identified in Enclosure 1 and Enclosure 2 of SCE&G's submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes involve reformatting, renumbering, and rewording the TS. The reformatting, renumbering, and rewording process involves no technical changes to the TS. As such, these changes are administrative in nature and do not affect initiators of analyzed events or assumed mitigation of accident or transient events.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or changes in methods governing normal plant operation. The proposed changes will not impose any new or different requirements, or eliminate any existing requirements.

Therefore, the proposed changes do not create the possibility of a new or different kind of accident from any accident previously evaluated.

3. Does the proposed change involve a significant reduction in a margin of safety?

Response: No.

The proposed changes will not reduce a margin of safety because the changes have no effect on any safety analyses assumptions. These changes are administrative in nature.

Therefore, the proposed changes do not involve a significant reduction in a margin of safety.

10 CFR 50.92 EVALUATION FOR MORE RESTRICTIVE CHANGES

This generic category include changes that impose additional requirements, decrease allowed outage times, increase the Frequency of Surveillances, impose additional Surveillances, increase the scope of Specifications to include additional plant equipment, broaden the Applicability of Specifications, or provide additional actions. These changes have been evaluated to not be detrimental to plant safety.

More restrictive changes are proposed only when such changes are consistent with the current VCSNS, Units 2 and 3 Licensing basis; the applicable VCSNS safety analyses; and good engineering practice such that the availability and reliability of the affected equipment is not reduced.

Changes to the TS requirements categorized as More Restrictive are annotated with an “M” in the Enclosure 1 DOC and Enclosure 2 markup of SCE&G's submittal.

SCE&G proposes to amend the VCSNS Units 2 and 3 TS. SCE&G has evaluated each of the proposed TS changes identified as More Restrictive in accordance with the criteria set forth in 10 CFR 50.92, “Issuance of amendment,” and has determined that the proposed changes do not involve a significant hazards consideration. This significant hazards consideration is applicable to each More Restrictive change identified in Enclosure 1 and Enclosure 2 of SCE&G's submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes provide more stringent TS requirements. These more stringent requirements do not result in operations that significantly increase the probability of initiating an analyzed event, and do not alter assumptions relative to mitigation of an accident or transient event. The more restrictive requirements continue to ensure process variables, structures, systems, and components are maintained consistent with the safety analyses and licensing basis.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or changes in methods governing normal plant operation. The proposed changes do impose different Technical Specification requirements. However, these changes are consistent with the assumptions in the safety analyses and licensing basis.

Therefore, the proposed changes do not create the possibility of a new or different kind of accident from any accident previously evaluated.

3. Does the proposed change involve a significant reduction in a margin of safety?

Response: No.

The imposition of more restrictive requirements either has no effect on or increases a margin of plant safety. As provided in the discussion of change, each change in this category is, by definition, providing additional restrictions to enhance plant safety. The changes maintain requirements within the safety analyses and licensing basis.

Therefore, the proposed changes do not involve a significant reduction in a margin of safety.

10 CFR 50.92 EVALUATION FOR RELOCATED SPECIFICATIONS

This generic category applies to changes that relocate entire TS Limiting Conditions for Operations (LCOs). A specific DOC for each TS identified for relocation is provided in Enclosure 1. This evaluation will be applicable to each of the changes identified with an “R” in the Enclosure 1 DOC and the associated Enclosure 2 markup of SCE&G's submittal.

SCE&G proposes to amend the VCSNS, Units 2 and 3 TS. Some of the proposed changes involve relocating certain TS LCOs to licensee controlled documents that are subject to the provisions of 10 CFR 52.98.

SCE&G has evaluated the VCSNS TS using the criteria set forth in 10 CFR 50.36 which define the scope of the TS. LCOs identified by this evaluation that did not meet the retention requirements specified in the regulation are deleted from the TS.

SCE&G has evaluated each of the proposed TS changes identified as Relocated Specifications in accordance with the criteria set forth in 10 CFR 50.92, “Issuance of Amendment,” and has determined that the proposed changes do not involve a significant hazards consideration. This significant hazards consideration is applicable to each Relocated Specification identified in Enclosure 1 and Enclosure 2 of SCE&G's submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes relocate LCOs for structures, systems, components, or variables that do not meet the criteria of 10 CFR 50.36(c)(2)(ii) for inclusion in TS. The affected structures, systems, components, or variables are not assumed to be initiators of analyzed events and are not assumed to mitigate accident or transient events. The requirements and Surveillances for these affected structures, systems, components, or variables are proposed to be relocated from the TS to a licensee controlled document that is controlled by the provisions of 10 CFR 50.59. The proposed changes only reduce the level of regulatory control on these requirements. The level of regulatory control has no impact on the probability or consequences of an accident previously evaluated.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or change in the methods governing normal plant operation. The proposed changes will not impose or eliminate any requirements, and adequate control of existing requirements will be maintained.

Therefore, the proposed changes do not create the possibility of a new or different kind of accident from any accident previously evaluated.

3. Does the proposed change involve a significant reduction in a margin of safety?

Response: No.

The proposed changes will not reduce a margin of safety because they have no significant effect on any safety analyses assumptions, as indicated by the fact that the requirements do not meet the 10 CFR 50.36 criteria for retention. In addition, the relocated requirements are moved without change, and any future changes to these requirements will be evaluated per 10 CFR 50.59.

The NRC prior review and approval of changes to these relocated requirements, in accordance with 10 CFR 50.92, will no longer be required. There is no margin of safety attributed to NRC prior review and approval. However, the proposed changes are consistent with 10 CFR 50.36, which allows revising the TS to relocate these requirements and Surveillances to a licensee controlled document.

Therefore, the proposed changes do not involve a significant reduction in a margin of safety.

10 CFR 50.92 EVALUATION FOR DETAIL REMOVED CHANGES

This generic category applies to changes that involve removing details out of the TS. These details are either supported by existing content in the TS Bases or the Final Safety Analysis Report (FSAR) or a commitment is made to add them to the TS Bases or FSAR. The removal of this information is considered to be less restrictive because it is no longer controlled by the TS change process. Typically, the information removed is descriptive in nature and its removal conforms to NUREG-1431 for format and content.

A specific DOC for each detail identified for removal is provided in Enclosure 1 of SCE&G's submittal. This evaluation will be applicable to each of the changes identified with a “D” in the Enclosure 1 DOC and the associated Enclosure 2 markup of SCE&G's submittal.

SCE&G proposes to amend the VCSNS Units 2 and 3, Technical Specifications. SCE&G has evaluated each of the proposed TS changes identified as Detail Removed in accordance with the criteria set forth in 10 CFR 50.92, “Issuance of amendment,” and has determined that the proposed changes do not involve a significant hazards consideration. This significant hazards consideration is applicable to each Detail Removed change identified in Enclosure 1 and Enclosure 2 of SCE&G's submittal.

The basis for the determination that the proposed changes do not involve a significant hazards consideration is an evaluation of these changes against each of the criteria in 10 CFR 50.92(c). The criteria and conclusions of the evaluation are presented below:

1. Does the proposed change involve a significant increase in the probability or consequences of an accident previously evaluated?

Response: No.

The proposed changes relocate certain details from the TS to other documents under regulatory control. The FSAR will be maintained in accordance with 10 CFR 50.59 and 10 CFR Part 52, Appendix D, Section VIII. The TS Bases are subject to the change control provisions in the Administrative Controls Chapter of the TS. Since any changes to these documents will be evaluated, no significant increase in the probability or consequences of an accident previously evaluated will be allowed.

Therefore, the proposed changes do not involve a significant increase in the probability or consequences of an accident previously evaluated.

2. Does the proposed change create the possibility of a new or different kind of accident from any accident previously evaluated?

Response: No.

The proposed changes do not involve a physical alteration of the plant (no new or different type of equipment will be installed) or a change in the methods governing normal plant operations. The proposed changes will not impose or eliminate any requirements, and adequate control of the information will be maintained. Therefore, the proposed changes do not create the possibility of a new or different kind of accident from any accident previously evaluated.

3. Does the proposed change involve a significant reduction in a margin of safety?

Response: No.

The proposed changes will not reduce a margin of safety because they have no effect on any assumption of the safety analyses. In addition, the details to be moved from the TS to other documents are not being changed. Since any future changes to these details will be evaluated under the applicable regulatory change control mechanism, no significant reduction in a margin of safety will be allowed. A significant reduction in a margin of safety is not associated with the elimination of the 10 CFR 50.90 requirement for the NRC review and approval of future changes to the relocated details. Not including these details in the TS is consistent with NUREG-1431, issued by the NRC, which allows revising the TS to relocate these requirements to a licensee controlled document controlled by 10 CFR 50.59 and 10 CFR Part 52, Appendix D, Section VIII, or other TS controlled or regulation controlled documents.

Therefore, the proposed changes do not involve a significant reduction in a margin of safety.

10 CFR 50.92 EVALUATION FOR LESS RESTRICTIVE CHANGES

This category consists of technical changes which revise existing requirements such that more restoration time is provided, fewer compensatory measures are needed, surveillance requirements are deleted, or less restrictive surveillance requirements are required. This would also include requirements which are deleted from the TS (not relocated to other documents) and other technical changes that do not fit a generic category. These changes are evaluated individually.

Technical changes to the TS requirements categorized as “Less Restrictive” are identified with an “L” and an individual number in the Enclosure 1 DOC and Enclosure 2 markup of SCE&G's submittal.

SCE&G proposes to amend the VCSNS Units 2 and 3, Technical Specifications. SCE&G has evaluated each of the proposed technical changes identified as “Less Restrictive” individually in accordance with the criteria set forth in 10 CFR 50.92 and has determined that the proposed changes do not involve a significant hazards consideration.

The basis for the determination that the proposed changes do not involve a significant hazards consideration is an evaluation of these changes against each of the criteria in 10 CFR 50.92(c). The criteria and conclusions of the evaluation are presented below.

L01 SCE&G proposes to amend TS 1.0, “Definitions,” by deleting the definition for Actuation Device Test. Reference to “overlap with the ACTUATION DEVICE TEST” that is cited in the definition of Actuation Logic Test is replaced with “overlap with the actuated device.”

Current Surveillance Requirement (SR) 3.3.2.7 (“Perform ACTUATION DEVICE TEST”) and SR 3.3.2.8 (“Perform ACTUATION DEVICE TEST for squib valves”) are deleted from current TS 3.3.2 and Table 3.3.2-1, Function 26, Engineered Safety Feature (ESF) Actuation. The equivalent requirement (using phrasing generally consistent with NUREG-1431) is included in individual Specifications for the actuated devices with the same 24-month Frequency as the deleted SRs. The impact of this reformatting is such that more appropriate, albeit less restrictive, actions would be applied when the associated device fails to meet the surveillance requirement. Also, current SR 3.3.2.9 is revised to eliminate the use of the Actuation Device Test defined term and replaced it with verification of actuation on an actual or simulated actuation signal.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The change involves reformatting and revising the presentation of existing surveillance requirements (with no change in required system or device function), such that more appropriate, albeit less restrictive, actions would be applied when the device fails to meet the surveillance requirement. Revised surveillance requirement presentation and compliance with TS actions are not an initiator to any accident previously evaluated. As a result, the probability of an accident previously evaluated is not affected.

The consequences of an accident as a result of the revised surveillance requirements and actions are no different than the consequences of the same accident during the existing ones. As a result, the consequences of an accident previously evaluated are not affected by this change.

The proposed change does not alter or prevent the ability of structures, systems, and components from performing their intended function to mitigate the consequences of an initiating event within the assumed acceptance limits. The proposed change does not affect the source term, containment isolation, or radiological release assumptions used in evaluating the radiological consequences of an accident previously evaluated.

Therefore, this change does not involve a significant increase in the probability or consequences of an accident previously evaluated.

2. Does the proposed change create the possibility of a new or different kind of accident from any accident previously evaluated?

Response: No.

The proposed change reformats TS requirements such that more appropriate, albeit less restrictive, actions would be applied when the device fails to meet the surveillance requirement. However, the proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While certain actions for inoperability of actuated devices are made less restrictive by eliminating entry into Engineered Safety Feature Actuation System (ESFAS) Actuation and Instrumentation inoperability actions, no action is made less restrictive than currently approved for any associated actuated device inoperability. As such, there is no significant reduction in a margin of safety.

L02 SCE&G proposes to amend current TS 5.6, “Reporting Requirements,” to delete TS 5.6.1, “Occupational Radiation Exposure Report,” and TS 5.6.4, “Monthly Operating Reports.” This change results in the renumbering of TS 5.6 sections, but does not revise technical or administrative requirements. SCE&G stated that the change is consistent with NRC approved Industry/TSTF Standard Technical Specification Change Traveler, TSTF-369, “Removal of Monthly Operating Report and Occupational Radiation Exposure Report,” Revision 1.

SCE&G has reviewed the proposed no significant hazards consideration determination published on June 23, 2004 (69 FR 35067) as part of the Consolidated Line Item Improvement Process (CLIIP) for TSTF-369, Revision 1. SCE&G has concluded that the proposed determination presented in the notice is applicable to VCSNS Units 2 and 3 and the determination is hereby incorporated by reference to satisfy the requirements of 10 CFR 50.91 (a).

L03 SCE&G proposes to amend TS to eliminate the use of the defined term “CORE ALTERATIONS” and incorporate changes reflected in TSTF-471-A.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change eliminates the use of the term “CORE ALTERATIONS,” all Required Actions requiring suspension of core alterations, and reference to core alterations in a surveillance requirement. With the exception of a fuel handling accident, core alterations are not an initiator of any accident previously evaluated. Those revised Specifications which protect the initial conditions of a fuel handling accident also require the suspension of movement of irradiated fuel assemblies. This Required Action protects the initial conditions of a fuel handling accident and, therefore, suspension of all other core alterations is not required. Suspension of core alterations, except fuel handling, does not provide mitigation of any accident previously evaluated. Therefore, eliminating the TS presentation of core alterations does not affect the initiators of the accidents previously evaluated and suspension of core alterations does not affect the mitigation of the accidents previously evaluated.

Therefore, the proposed change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

Two events are postulated to occur in the plant conditions in which core alterations may be made: a fuel handling accident and a boron dilution incident. Suspending movement of irradiated fuel assemblies to prevent a fuel handling accident is retained as appropriate. As such, requiring the suspension of core alterations is an overly broad, redundant requirement that does not increase a margin of safety. Core alterations have no effect on a boron dilution incident. Core components are not involved in the creation or mitigation of a boron dilution incident and the shutdown margin (Mode 5) and boron concentration (Mode 6) limits are based on assuming the worst-case configuration of the core components. Therefore, core alterations have no effect on a margin of safety related to a boron dilution incident.

Therefore, there is no significant reduction in a margin of safety.

L04 SCE&G proposes to amend TS, Section 1.3, “Completion Times,” Example 1.3-3 to eliminate the Required Action A.1 and Required Action B.1 second Completion Times, and to replace the discussion regarding second Completion Times with a new discussion. SCE&G also proposes to delete the second Completion Times associated with current TS 3.8.5, “Distribution Systems—Operating,” Required Actions A.1, B.1, C.1, and D.1.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change eliminates certain Completion Times from the Technical Specifications. Completion Times are not an initiator to any accident previously evaluated. As a result, the probability of an accident previously evaluated is not affected. The consequences of an accident during the revised Completion Time are no different than the consequences of the same accident during the existing Completion Times. As a result, the consequences of an accident previously evaluated are not affected by this change. The proposed change does not alter or prevent the ability of structures, systems, and components (SSCs) from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to delete the second Completion Time does not alter the manner in which safety limits, limiting safety system settings or limiting conditions for operation are determined. The safety analysis acceptance criteria are not affected by this change. The proposed change will not result in plant operation in a configuration outside of the design basis.

Therefore, there is no significant reduction in a margin of safety.

L05 SCE&G proposes to amend TS to eliminate LCO 3.0.8.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

Technical Specification actions to restore equipment to Operable and to monitor plant parameters are not initiators to any analyzed accident sequence. Operation in accordance with the proposed TS continues to ensure that plant equipment is capable of performing mitigative functions assumed by the accident analysis. The proposed TS change does not involve any changes to SSCs and does not alter the method of operation or control of SSCs as described in the FSAR. The current assumptions in the safety analysis regarding accident initiators and mitigation of accidents are unaffected by this change. No additional failure modes or mechanisms are being introduced and the likelihood of previously analyzed failures remains unchanged.

The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change does not alter the requirement to restore compliance with TS and to monitor plant parameter status for appropriate manual actions. Operation in accordance with the proposed TS ensures that the plant response to analyzed events will continue to provide the margins of safety assumed by the analysis. Appropriate monitoring and maintenance, consistent with industry standards, will continue to be performed.

As such, there is no functional change to the requirements and therefore, there is no significant reduction in a margin of safety.

L06 SCE&G proposes to amend TS 3.2.5 to eliminate the increased frequency of verifying core power distribution parameters when the On-line Power Distribution Monitoring System (OPDMS) alarms are inoperable. This change retains the normal 24-hour Frequency and eliminates the 12-hour Frequency when OPDMS alarms are inoperable.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

A TS frequency for monitoring plant parameters is not an initiator to any accident sequence analyzed in the FSAR. Operation in accordance with the proposed TS continues to ensure that initial conditions assumed in the accident analysis are maintained.

The proposed change does not involve a physical alteration of the plant as described in the FSAR and does not alter the method of operation or control of equipment as described in the FSAR. The current assumptions in the safety analysis regarding accident initiators and mitigation of accidents are unaffected by this change. Plant equipment remains capable of performing mitigative functions assumed by the accident analysis. No additional failure modes or mechanisms are being introduced and the likelihood of previously analyzed failures remains unchanged. The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change is acceptable because the OPDMS alarms do not impact a margin of safety. Operation in accordance with the proposed TS ensures that the plant response to analyzed events will continue to provide the margins of safety assumed by the analysis. Appropriate monitoring and maintenance, consistent with industry standards, will continue to be performed.

As such, there is no functional change to the requirements and therefore, there is no significant reduction in a margin of safety.

L07 SCE&G proposes to amend the TS 3.3.1, 3.3.4, and 3.4.5 by replacing the TS Required Actions requiring the reactor trip breakers (RTBs) to be opened with two Required Actions: one Required Action states “Initiate action to fully insert all rods,” and the other Required Action states “Place the Plant Control System in a condition incapable of rod withdrawal.” For consistency, TS Applicabilities associated with RTB position are also being revised. Applicabilities including “RTBs closed” are revised to state “Plant Control System capable of rod withdrawal or one or more rods not fully inserted.” Conversely, Applicabilities including “RTBs open” are revised to state “With Plant Control System incapable of rod withdrawal and all rods fully inserted.”

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant as described in the FSAR and does not alter the method of operation or control of equipment as described in the FSAR. The current assumptions in the safety analysis regarding accident initiators and mitigation of accidents are unaffected by this change. Plant equipment remains capable of performing mitigative functions assumed by the accident analysis. However, the change involves allowing methods of compliance other than establishing or verifying RTB open or closed status to determine the condition of the capability of the Plant Control System to allow or inhibit rod withdrawal and the status of all rods inserted or not. The method of establishing this status is not an accident initiator nor involved with mitigation of the consequences of an accident.

Therefore, this change does not involve a significant increase in the probability or consequences of an accident previously evaluated.

2. Does the proposed change create the possibility of a new or different kind of accident from any accident previously evaluated?

Response: No.

The proposed change does allow methods of compliance other than establishing or verifying RTB open or closed status; however, RTB open or closed status will continue to be one appropriate and viable method of establishing and verifying applicable plant conditions. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While certain interlocks depend on RTB open or close status, these interlocks and the association with RTB is not revised. When those interlocks are required, the position of RTBs will continue to dictate the appropriate protection system response. Allowing alternate methods of establishing or verifying the condition of the capability of the Plant Control System to allow or inhibit rod withdrawal and the status of all rods inserted or not, does not impact any safety analysis assumption or plant response to an analyzed event.

As such, there is no functional change to the required plant conditions, and therefore, there is no significant reduction in a margin of safety.

L08 SCE&G proposes to amend the TS by deleting current TS 3.3.1, Reactor Trip System (RTS) Instrumentation, Required Actions D.1.1, D.2.1, and D.2.2 applicable to inoperable Power Range Neutron Flux channels.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. Overly restrictive and inappropriate Required Actions are being deleted since adequate compensatory measures already address the potential impact on radial power monitoring and the appropriate compensatory and mitigative actions in the event the RTS function is degraded for the Power Range Neutron Flux function. Additionally, the Surveillances for TS 3.2.4, Quadrant Power Tilt Ratio (QPTR), address the requirements unique to loss of Power Range Neutron Flux monitoring for QPTR. Eliminating overly restrictive and inappropriate Required Actions does not impact an accident initiator or impact mitigation of the consequences of any accident. Therefore, this change does not involve a significant increase in the probability or consequences of an accident previously evaluated.

2. Does the proposed change create the possibility of a new or different kind of accident from any accident previously evaluated?

Response: No.

The proposed change eliminates overly restrictive and inappropriate Required Actions. However, the proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change will not reduce a margin of safety because it has no such effect on any assumption of the safety analyses. While certain actions for inoperability of actuated devices are made less restrictive by eliminating a potentially unnecessary power reduction, and actions that could not be performed, no action is made less restrictive than currently approved for similar channel inoperability.

Therefore, there is no significant reduction in a margin of safety.

L09 SCE&G proposes to amend current TS 3.3.1, “Reactor Trip System (RTS) Instrumentation,” Source Range Neutron Flux Actions in Mode 2 for one and two inoperable channels. The change allows for placing inoperable channels in bypass and/or trip thereby allowing continued operation.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. However, the change involves providing actions allowing bypassing and/or tripping one or two inoperable Source Range Neutron Flux channels. Required Actions are not an accident initiator nor credited with mitigation of the consequences of an accident. The actions continue to assure operation consistent with the design provisions and within the assumptions of the safety analysis.

Therefore, this change does not involve a significant increase in the probability or consequences of an accident previously evaluated.

2. Does the proposed change create the possibility of a new or different kind of accident from any accident previously evaluated?

Response: No.

The proposed change involves certain less restrictive actions; however, these actions are consistent with the design provisions and with currently approved actions for other inoperable automatic RTS actuation functions. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change will not reduce a margin of safety because it has no such effect on any assumption of the safety analyses. While the change involves less restrictive actions, these actions are consistent with the design provisions and with currently approved actions for other inoperable automatic RTS actuation Functions. These actions do not result in any conflict with the assumptions in the safety analyses and licensing basis.

As such, there is no significant reduction in a margin of safety.

L10 SCE&G proposes to amend the TS, as follows

:

• TS 3.1.8 “PHYSICS TESTS Exceptions—MODE 2,” is revised to delete the listing of current Function 16.b for TS 3.3.1, “Reactor Trip System (RTS) Instrumentation”;

• Current TS 3.3.1, “Reactor Trip System (RTS) Instrumentation,” Table 3.3.1-1, Function 16, Reactor Trip System Interlocks requirements are removed;

• Current TS 3.3.1 Action M is deleted;

• Current TS 3.3.2, “Engineered Safety Feature Actuation System (ESFAS) Instrumentation,” Table 3.3.2-1, Function 18, ESFAS Interlocks (with the exception of Table 3.3.2-1, Function 18.b, Reactor Trip, P-4) requirements are removed; and

• Current TS 3.3.2 Action J is deleted.

The design description and role in supporting operability of TS required RTS and ESFAS functions re retained in the FSAR Chapter 7, Instrumentation and Controls, as well as the TS Bases.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The TS RTS and ESFAS actuation functions explicitly retained in TS are those assumed to actuate in the safety analysis. The associated interlocks are necessary support functions for Operability of these TS required RTS and ESFAS functions. The removal of explicit interlock functions does not impact the design-required actuation function. Plant equipment remains capable of performing preventative and mitigative functions assumed by the accident analysis. However, the change involves removing explicit requirements, including actions that lead to reestablishing operability of the assumed actuation functions; implicitly these requirements are maintained and the actions remain viable for reestablishing operability. Since the requirements for the safety function Operability remains unchanged, removing the explicit presentation of detail is not an accident initiator nor involved with mitigation of the consequences of an accident.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While the presentation of TS RTS and ESFAS actuation functions moves the associated interlocks from explicit treatment to becoming an implicit support system feature, the function continues to be required as necessary to support associated TS actuation functions. In doing so, certain actions for inoperability of interlocks are made more restrictive by now entering actions specific to the supported function's inoperability which have shorter Completion Times. However those actions are consistent with those currently approved for inoperability of that function.

As such, there is no significant reduction in a margin of safety.

L11 SCE&G proposes to amend TS 3.3.1, “Reactor Trip System (RTS) Instrumentation,” to delete:

• Current Table 3.3.1-1, Function 5, Source Range Neutron Flux High Setpoint, third row for that function including Applicability set “3(e),4(e),5(e)” and associated references to Required Channel, Condition, and Surveillance Requirements;

• Current Table 3.3.1-1, Footnote (e); and

• Current Action R.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The change involves removing certain actions that apply during inoperability of all four source range channels to provide indication. However, requirements and associated Required Actions continue to apply to source range channels in separate TS. The Required Actions removed are not accident initiators nor involved with mitigation of the consequences of an accident. The remaining requirements and actions continue to assure operation within the assumptions of the safety analysis.

Therefore, this change does not involve a significant increase in the probability or consequences of an accident previously evaluated.

2. Does the proposed change create the possibility of a new or different kind of accident from any accident previously evaluated?

Response: No.

The proposed change involves removing certain actions for inoperability of all four source range channels; however, this change does not result in any conflict with the assumptions in the safety analyses and licensing basis. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced.

Therefore, this change does not create the possibility of a new or different kind of accident from any accident previously evaluated.

3. Does the proposed change involve a significant reduction in a margin of safety?

Response: No.

Margin of safety is established through equipment design, operating parameters, and the setpoints at which automatic actions are initiated. The proposed change will not reduce a margin of safety because it has no such effect on any assumption of the safety analyses. While certain actions for inoperability of all four source range channels to indicate are removed, requirements and associated Required Actions continue to apply to source range channels in a separate TS. When all source range monitoring channels are inoperable, the remaining actions continue to assure operation within safety analysis assumptions. These actions are consistent with the actions presented in the NUREG-1431.

As such, there is no significant reduction in a margin of safety.

L12 SCE&G proposes to amend current TS 3.3.2, “Engineered Safety Feature Actuation System (ESFAS) Instrumentation,” Actions related to functions that result in valve isolation actuations. Current TS 3.3.2 Actions P, Q, R, S, T, and Z, are revised to “Declare affected isolation valve(s) inoperable.” Additionally, the following current Table 3.3.2-1 Applicability Footnotes are deleted:

• (e) Not applicable for valve isolation functions whose associated flow path is isolated;

• (h) Not applicable if all main steam isolation valves (MSIVs) are closed; and

• (i) Not applicable when the startup feedwater flow paths are isolated.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The less restrictive Required Actions are acceptable based on the fact that the new actions are the appropriate actions for the actuated equipment. Required Actions are not an accident initiator nor credited with mitigation of the consequences of an accident. The actions continue to assure operation within the assumptions of the safety analysis and are consistent with approved actions for the actuated equipment.

Therefore, this change does not involve a significant increase in the probability or consequences of an accident previously evaluated.

2. Does the proposed change create the possibility of a new or different kind of accident from any accident previously evaluated?

Response: No.

The proposed change involves certain less restrictive actions; however, the actions continue to assure operation within the assumptions of the safety analysis and are consistent with approved actions for the actuated equipment. The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While the change involves less restrictive actions, the actions are consistent with approved actions for the actuated equipment. These actions do not result in any conflict with the assumptions in the safety analyses and licensing basis.

As such, there is no significant reduction in a margin of safety.

L13 SCE&G proposes to amend current TS 3.3.3, “Post Accident Monitoring (PAM) Instrumentation,” as follows:

• Function 12 is revised from “Passive Residual Heat Removal (PRHR) Flow and PRHR Outlet Temperature,” to “Passive Residual Heat Removal (PRHR) Heat Removal.” In addition, the Required Channels/Divisions column is revised from “2 flow & 1 temperature,” to “2”.

• Function 17 is revised from “Passive Containment Cooling System (PCS) Storage Tank Level and PCS Flow,” to “Passive Containment Cooling System (PCS) Heat Removal.” In addition, the Required Channels/Divisions column is revised from “2 level & 1 flow,” to “2”.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change reduces the number of required Function 12 and Function 17 channels from three to two. Requiring the minimum of two redundant channels is consistent with NUREG-1431 requirements for meeting Regulatory Guide (RG) 1.97 PAM redundancy requirements. The change also relocates the details of the specific channels designed to satisfy the PAM requirements to the associated Bases. The proposed change does not involve a physical alteration of the plant or a change in the methods governing normal plant operations. PAM functions are not initiators of analyzed events and therefore the revised requirements do not result in operations that significantly increase the probability of initiating an analyzed event. The PAM function affected by this change is designed to accommodate single failure to support post-accident monitoring. The change reduces TS requirements on excess required channels; however, single failure redundancy continues to be required. Thus, the proposed change does not alter assumptions relative to mitigation of an accident or transient event. The less restrictive requirements continue to ensure process variables, structures, systems, and components are maintained consistent with the safety analyses and licensing basis.

The TS Bases will be maintained in accordance with the change control provisions of the TS Bases Control Program described in TS 5.5.6. Because any change to the TS Bases will be evaluated, no significant increase in the probability or consequences of an accident previously evaluated will be allowed.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. In addition, the details being moved from the current TS to the TS Bases are not being changed. NRC prior review and approval of changes to these relocated requirements, in accordance with 10 CFR 50.92, will no longer be required. Future change to these details will be evaluated under the applicable regulatory change control mechanism. There is no margin of safety attributed to the NRC prior review and approval; therefore, there is no significant reduction in a margin of safety.

L14 SCE&G proposes to amend current TS 3.3.5, “Diverse Actuation System (DAS) Manual Controls,” Table 3.3.5-1, “DAS Manual Controls,” footnote b; current TS 3.6.7, “Passive Containment Cooling System (PCS)—Shutdown,” Applicability; and current TS 3.7.9, “Fuel Storage Pool Makeup Water Sources,” LCO Notes 1, 2, and 3; Applicability, Surveillance Requirement (SR) 3.7.9.1 Note, SR 3.7.9.2 Note, SR 3.7.9.3 Note, and SR 3.7.9.4 Note by deleting “calculated” with respect to decay heat.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The proposed change provides less stringent TS requirements for the facility by not expressly specifying the method of determining the decay heat value. These less stringent requirements do not result in operations that significantly increase the probability of initiating an analyzed event, and do not alter assumptions relative to mitigation of an accident or transient event. The less restrictive requirements continue to ensure process variables, structures, systems, and components are maintained consistent with the safety analyses and licensing basis.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. Eliminating the imposition of single method of determining the decay heat value has no effect on or a margin of plant safety. “Calculating” the decay heat value remains a viable option. The change maintains requirements within the safety analyses and licensing basis.

As such, there is no technical change to the requirements and therefore, there is no significant reduction in a margin of safety.

L15 SCE&G proposes to amend TS 3.4.8, “Minimum [Reactor Coolant System] RCS Flow,” SR 3.4.8.1 from “Verify that at least one [Reactor Coolant Pump] RCP is in operation at ≥ 10% rated speed or equivalent,” to “Verify that at least one RCP is in operation with total flow through the core ≥ 3,000 gpm.”

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The change involves revising the acceptance criteria of an existing surveillance requirement with no change in required system or device function. Surveillance acceptance criteria are not accident initiators nor involved with mitigation of the consequences of any accident. The proposed acceptance criteria ensure that the applicable analysis input assumptions are preserved.

Therefore, this change does not involve a significant increase in the probability or consequences of an accident previously evaluated.

2. Does the proposed change create the possibility of a new or different kind of accident from any accident previously evaluated?

Response: No.

The proposed change revises the acceptance criteria of an existing surveillance requirement. However, the proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. While the surveillance requirement acceptance criteria is made less restrictive by removal of design margin that accounts for minimizing stress and wear, and increasing equipment life, and the expected operating limit on minimum RCP speed, this margin is more appropriately maintained in the design and in operating and surveillance procedures.

Therefore, there is no significant reduction in a margin of safety.

L16 SCE&G proposes to amend current TS 3.4.10, “RCS Specific Activity,” Actions by deleting Required Action B.1, which requires “Perform SR 3.4.10.2,” within 4 hours.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The proposed change provides less stringent TS actions for the facility. However, the less restrictive requirements continue to ensure process variables, structures, systems, and components are maintained consistent with the safety analyses and licensing basis. The performance of SR 3.4.10.2 is not related to an accident initiator nor credited with mitigation of the consequences of an accident.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. The change maintains requirements within the safety analyses and licensing basis. The result of performing the additional surveillance does not provide any additional margin of safety; as such, eliminating the Required Action for performing the additional surveillance does not result in a significant reduction in a margin of safety.

L17 SCE&G proposes to amend TS as follows:

1. Current TS 3.5.2, “Core Makeup Tanks (CMTs)—Operating,” Condition D is revised from “One CMT inoperable due to presence of noncondensible gases in one high point vent,” to “One CMT inlet line with noncondensible gas volume not within limit.”

2. Current TS 3.5.2, Required Action D.1 is revised from “Vent noncondensible gases,” to “Restore CMT inlet line noncondensible gas volume to within limit.”

3. Current TS 3.5.4, “Passive Residual Heat Removal Heat Exchanger (PRHR HX)—Operating,” Condition C is revised from “Presence of noncondensible gases in the high point vent,” to “PRHR HX inlet line noncondensible gas volume not within limit.”

4. Current TS 3.5.4, Required Action C.1 is revised from “Vent noncondensible gases,” to “Restore PRHR HX inlet line noncondensible gas volume to within limit.”

5. Current TS 3.5.5, “Passive Residual Heat Removal Heat Exchanger (PRHR HX)—Shutdown, Reactor Coolant System (RCS) Intact,” Condition C is revised from “Presence of noncondensible gases in the high point vent,” to “PRHR HX inlet line noncondensible gas volume not within limit.”

6. Current TS 3.5.5, Required Action C.1 is revised from “Vent noncondensible gases,” to “Restore PRHR HX inlet line noncondensible gas volume to within limit.”

7. Current TS 3.5.6, “In-containment Refueling Water Storage Tank (IRWST)—Operating,” Condition B is revised from “One IRWST injection line inoperable due to presence of noncondensible gases in one high point vent,” to “One IRWST injection flow path with noncondensible gas volume in one squib valve outlet line pipe stub not within limit.”

8. Current TS 3.5.6, Required Action B.1 is revised from “Vent noncondensible gases,” to “Restore noncondensible gas volume in squib valve outlet line pipe stub to within limit.”

9. Current TS 3.5.6, Condition C is revised from “One IRWST injection line inoperable due to presence of noncondensible gases in both high point vents,” to “One IRWST injection flow path with noncondensible gas volume in both squib valve outlet line pipe stubs not within limit.”

10. Current TS 3.5.6, Required Action C.1 is revised from “Vent noncondensible gases from one high point vent,” to “Restore one squib valve outlet line pipe stub noncondensible gas volume to within limit.”

11. Current TS 3.5.7, “In-containment Refueling Water Storage Tank (IRWST)—Shutdown, MODE 5,” Condition B is revised from “Required IRWST injection line inoperable due to presence of noncondensible gases in one high point vent,” to “Required IRWST injection flow path with noncondensible gas volume in one squib valve outlet line pipe stub not within limit.”

12. Current TS 3.5.7, Required Action B.1 is revised from “Vent noncondensible gases,” to “Restore noncondensible gas volume in squib valve outlet line pipe stub to within limit.

13. Current TS 3.5.7, Condition C is revised from “Required IRWST injection line inoperable due to presence of noncondensible gases in both high point vents,” to “Required IRWST injection flow path with noncondensible gas volume in both squib valve outlet line pipe stubs not within limit.”

14. Current TS 3.5.7, Required Action C.1 is revised from “Vent noncondensible gases from one high point vent,” to “Restore one squib valve outlet line pipe stub noncondensible gas volume to within limit.”

15. TS 3.5.8, “In-containment Refueling Water Storage Tank (IRWST)—Shutdown, MODE 6,” Condition B is revised from “Required IRWST injection line inoperable due to presence of noncondensible gases in one high point vent,” to “Required IRWST injection flow path with noncondensible gas volume in one squib valve outlet line pipe stub not within limit.”

16. Current TS 3.5.8, Required Action B.1 is revised from “Vent noncondensible gases,” to “Restore noncondensible gas volume in squib valve outlet line pipe stub to within limit.”

17. Current TS 3.5.8, Condition C is revised from “Required IRWST injection line inoperable due to presence of noncondensible gases in both high point vents,” to “Required IRWST injection flow path with noncondensible gas volume in both squib valve outlet line pipe stubs not within limit.”

18. Current TS 3.5.8, Required Action C.1 is revised from “Vent noncondensible gases from one high point vent,” to “Restore one squib valve outlet line pipe stub noncondensible gas volume to within limit.”

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change does not involve a physical alteration of the plant or a change in the methods governing normal plant operations. The proposed change provides less stringent TS requirements by not expressly specifying the noncondensible gas volume limit; however, the requirement that noncondensible gas volume be within limits is not changed. These less stringent requirements do not result in operations that significantly increase the probability of initiating an analyzed event, and do not alter assumptions relative to mitigation of an accident or transient event. The less restrictive requirements continue to ensure process variables, structures, systems, and components are maintained consistent with the safety analyses and licensing basis.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change will not reduce a margin of safety because it has no effect on any assumption of the safety analyses. The amended actions and surveillances continue assure that noncondensible gas volumes are maintained and restored to within acceptable limits. The change maintains requirements within the safety analyses and licensing basis.

As such, there is no technical change to the requirements and therefore, there is no significant reduction in a margin of safety.

L18 SCE&G proposes to amend current TS 3.6.8, “Containment Penetrations,” LCO 3.6.8.d.2 to allow the penetration flow path to be open provided it can be closed prior to steaming into the containment. In conjunction, current SR 3.6.8.3 as well as the corresponding containment Isolation function required in current TS 3.3.2, “Engineered Safety Feature Actuation System (ESFAS) Instrumentation,” Table 3.3.2-1 Function 3.a for Modes 5 and 6, are removed. This removes requirements for Operable containment isolation signals in Modes 5 and 6, allowing manual operator actions to affect any required isolation prior to steaming into the containment.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change would remove requirements for Operable containment isolation signals in Modes 5 and 6, allowing manual operator action to effect any required isolation. The design provisions for instrumented closure signals are unaffected. The isolation status of the penetration flow path is not an initiator to any accident previously evaluated. As a result, the probability of an accident previously evaluated is not affected. The consequences of an accident with the valves open and capable of being closed prior to steaming into the containment are no different than the consequences of the same accident with the current requirements. The valves are currently allowed to be open, provided they can be isolated. The accident analysis assumes cooling water inventory is not lost in the event of an accident. Thus, closing the valves prior to steaming into the containment will ensure this assumption is met. As a result, the consequences of an accident previously evaluated are not affected by this change. The proposed change does not alter or prevent the ability of SSCs from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to remove requirements for Operable containment isolation signals in Modes 5 and 6, and allowing manual operator action to isolate the purge valve penetration flow path prior to steaming into the containment, does not alter the manner in which safety limits, limiting safety system settings or limiting conditions for operation are determined. The safety analysis acceptance criteria are not affected by this change. The proposed change will not result in plant operation in a configuration outside of the design basis.

As such, there is no technical change to the requirements and therefore, there is no significant reduction in a margin of safety.

L19 SCE&G proposes to amend current TS 3.9.6 “pH Adjustment,” LCO and current SR 3.9.6.1 trisodium phosphate (TSP) requirement from the volume requirement of 560 ft³ to a weight requirement of 26,460 lbs. In addition, due to this change, Condition A and Required Action A.1 is changed to refer to “weight” in lieu of “volume.”

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change allows for a lesser volume over time consistent with expected compaction and agglomeration. While the total weight will remain constant and sufficient to assure safety analysis assumptions are met, the unintended requirement to maintain volume > 560 ft³, even after compaction and agglomeration is made less restrictive. The TSP is not an initiator to any accident previously evaluated. As a result, the probability of an accident previously evaluated is not affected. The consequences of an accident with the changed TSP weight limit are no different than the consequences of the same accident with the current TSP limit. The accident analysis assumes a minimum of 26,460 lbs of TSP, and this value is being maintained in the TS. The assumed pH of 7.0 will be maintained using the proposed weight of TSP. This pH will continue to augment the retention of elemental iodine in the containment water, and thus reduce the iodine available to leak to the environment. As a result, the consequences of an accident previously evaluated are not affected by this change. The proposed change does not alter or prevent the ability of SSCs from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to allow for a lesser volume over time consistent with expected compaction and agglomeration, while maintaining the total weight to assure safety analysis assumptions are met, does not alter the manner in which safety limits, limiting safety system settings or limiting conditions for operation are determined. The safety analysis acceptance criteria are not affected by this change. The proposed change will not result in plant operation in a configuration outside of the design basis.

As such, there is no technical change to the requirements and therefore, there is no significant reduction in a margin of safety.

L20 SCE&G proposes to amend current TS 3.7.2, “Main Steam Isolation Valves (MSIVs),” Condition D Note to allow separate Condition entry due to any inoperable valve covered by the LCO, not just the MSIVs.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The proposed change allows a separate Condition entry for each affected flow path. The failure of the main steam line flow path covered by the LCO to close is not an initiator to any accident previously evaluated. As a result, the probability of an accident previously evaluated is not affected. The consequences of an accident are not affected since the inoperability in the flow path is addressed to assure affected flow paths are isolated as assumed in the accident analysis. As a result, the consequences of an accident previously evaluated are not affected by this change. The proposed change does not alter or prevent the ability of structures, systems, and components from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. No change is being made to the procedures relied upon to respond to an off-normal event as described in the FSAR as a result of this change. As such, no new failure modes are being introduced. The change does not alter assumptions made in the safety analysis and licensing basis.

Therefore, this change does not create the possibility of a new or different kind of accident from any accident previously evaluated.

3. Does the proposed change involve a significant reduction in a margin of safety?

Response: No.

The proposed change to allow a separate Condition entry for each affected flow path does not alter the manner in which safety limits, limiting safety system settings or limiting conditions for operation are determined. The safety analysis acceptance criteria are not affected by this change. The proposed change will not result in plant operation in a configuration outside of the design basis.

As such, there is no technical change to the requirements and therefore, there is no significant reduction in a margin of safety.

L21 SCE&G proposes to amend TS 3.8.1, “[Direct Current] DC Sources—Operating,” by deleting SR 3.8.1.3 Note 2.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The Class 1E DC electrical power system, including associated battery chargers, is not an initiator to any accident sequence analyzed in the FSAR. Operation in accordance with the proposed TS ensures that the Class 1E DC electrical power system is capable of performing its function as described in the FSAR, therefore the mitigative functions supported by the Class 1E DC electrical power system will continue to provide the protection assumed by the accident analysis.

The proposed TS change does not involve any changes to SSCs and does not alter the method of operation or control of SSCs as described in the FSAR. The current assumptions in the safety analysis regarding accident initiators and mitigation of accidents are unaffected by this change. No additional failure modes or mechanisms are being introduced and the likelihood of previously analyzed failures remains unchanged. The integrity of fission product barriers, plant configuration, and operating procedures as described in the FSAR will not be affected by this change.

Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change is acceptable because the operability of the Class 1E DC electrical power system is unaffected, there is no detrimental impact on any equipment design parameter, and the plant will still be required to operate within assumed conditions. Operation in accordance with the proposed TS ensures that the Class 1E DC electrical power system is capable of performing its function as described in the FSAR; therefore, the support of the Class 1E DC electrical power system to the plant response to analyzed events will continue to provide the margins of safety assumed by the analysis. Appropriate monitoring and maintenance, consistent with industry standards, will continue to be performed.

As such, there is no technical change to the requirements and therefore, there is no significant reduction in a margin of safety.

L22 SCE&G proposes to amend current TS 3.8.2, “DC Sources—Shutdown,” by adding a new Condition A to address inoperable battery chargers.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The Class 1E DC electrical power system, including associated battery chargers, is not an initiator to any accident sequence analyzed in the FSAR. Operation in accordance with the proposed TS ensures that the Class 1E DC electrical power system is capable of performing its function as described in the FSAR, therefore the mitigative functions supported by the Class 1E DC electrical power system will continue to provide the protection assumed by the accident analysis.

The proposed change does not involve any changes to SSCs and does not alter the method of operation or control of SSCs as described in the FSAR. The current assumptions in the safety analysis regarding accident initiators and mitigation of accidents are unaffected by this change. No additional failure modes or mechanisms are being introduced and the likelihood of previously analyzed failures remains unchanged.

The integrity of fission product barriers, plant configuration, and operating procedures as described in the FSAR will not be affected by this change. Therefore, the consequences of previously analyzed accidents will not increase because of this change.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change is acceptable because the Operability of the Class 1E DC electrical power system is unaffected, there is no detrimental impact on any equipment design parameter, and the plant will still be required to operate within assumed conditions. Operation in accordance with the proposed TS ensures that the Class 1E DC electrical power system is capable of performing its function as described in the FSAR; therefore, the support of the Class 1E DC electrical power system to the plant response to analyzed events will continue to provide the margins of safety assumed by the analysis. Appropriate monitoring and maintenance, consistent with industry standards, will continue to be performed.

As such, there is no technical change to the requirements and therefore, there is no significant reduction in a margin of safety.

L23 SCE&G proposes to amend current TS 5.5.2, “Radioactive Effluent Control Program,” to state that the provisions of SR 3.0.2 and SR 3.0.3 are applicable to the Radioactive Effluents Control Program surveillance frequency.

SCE&G has evaluated whether or not a significant hazards consideration is involved with the proposed amendment by focusing on the three standards set forth in 10 CFR 50.92, “Issuance of amendment,” as discussed below:

1. Does the proposed change involve a significant increase in the probability or consequences of an accident previously evaluated?

Response: No.

A TS frequency for the determination of cumulative and projected dose contributions from radioactive effluents is not an initiator to any accident sequence analyzed in the FSAR. Operation in accordance with the proposed TS continues to ensure that initial conditions assumed in the accident analysis are maintained. The proposed change does not involve a modification to the physical configuration of the plant or change in the methods governing normal plant operation. The proposed change will not impose any new or different requirements or introduce a new accident initiator, accident precursor, or malfunction mechanism.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

Margin of safety is established through equipment design, operating parameters, and the setpoints at which automatic actions are initiated. The proposed change, applying the 25% extension to the frequency of performing the monthly cumulative dose and projected dose calculations, will have no effect on the plant response to analyzed events and with therefore not impact a margin of safety. Operation in accordance with the proposed TS ensures that the plant response to analyzed events will continue to provide the margins of safety assumed by the analysis. Appropriate monitoring and maintenance, consistent with industry standards, will continue to be performed.

As such, there is no functional change to the requirements and therefore, there is no significant reduction in a margin of safety.

L24 SCE&G proposes to amend current TS 5.5.3, “Inservice Testing Program,” paragraph b from “The provisions of SR 3.0.2 are applicable to the above required Frequencies for performing inservice testing activities,” to “The provisions of SR 3.0.2 are applicable to the above required Frequencies and other normal and accelerated Frequencies specified as 2 years or less in the Inservice Testing Program for performing inservice testing activities.”

SCE&G has evaluated whether or not a significant hazards consideration is involved with the proposed amendment by focusing on the three standards set forth in 10 CFR 50.92, “Issuance of amendment,” as discussed below:

1. Does the proposed change involve a significant increase in the probability or consequences of an accident previously evaluated?

Response: No.

The frequency for inservice testing is not an initiator to any accident sequence analyzed in the FSAR, nor is it associated with any mitigative actions to reduce consequences. Operation in accordance with the proposed TS continues to ensure that initial conditions accident mitigative features assumed in the accident analysis are maintained. The proposed change does not involve a modification to the physical configuration of the plant or change in the methods governing normal plant operation. The proposed change will not impose any new or different requirements or introduce a new accident initiator, accident precursor, or malfunction mechanism.

Therefore, this change does not involve a significant increase in the probability or consequences of an accident previously evaluated.

2. Does the proposed change create the possibility of a new or different kind of accident from any accident previously evaluated?

Response: No.

The proposed change does not involve a physical alteration of the plant as described in the FSAR. No new equipment is being introduced, and equipment is not being operated in a new or different manner. There are no setpoints, at which protective or mitigative actions are initiated, affected by this change. This change will not alter the manner in which equipment operation is initiated, nor will the function demands on credited equipment be changed. Any alteration in procedures will continue to ensure that the plant remains within analyzed limits, and no change is being made to the procedures relied upon to respond to an off-normal event as described in the FSAR. As such, no new failure modes are being introduced. The change does not alter assumptions made in the safety analysis and licensing basis.

Therefore, this change does not create the possibility of a new or different kind of accident from any accident previously evaluated.

3. Does the proposed change involve a significant reduction in a margin of safety?

Response: No.

The proposed change, applying the 25% extension to certain frequencies for performing inservice testing, does not significantly degrade the reliability that results from performing the Surveillance at its specified Frequency. This is based on the recognition that the most probable result of any particular surveillance being performed is the verification of conformance with the SRs. As such, there is no technical change to the requirements and therefore, there is no significant reduction in a margin of safety. Margin of safety is established through equipment design, operating parameters, and the setpoints at which automatic actions are initiated. Operation in accordance with the proposed TS ensures that the plant response to analyzed events will continue to provide the margins of safety assumed by the analysis. Appropriate monitoring and maintenance, consistent with industry standards, will continue to be performed.

As such, there is no functional change to the requirements and therefore, there is no significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC 20004-2514.

NRC Branch Chief: Lawrence Burkhart.

Union Electric Company, Docket No. 50-483, Callaway Plant, Unit 1, Callaway County, Missouri

Date of amendment request: January 23, 2014.

Description of amendment request: The amendment would revise Technical Specification (TS) 3.4.12, “Cold Overpressure Mitigation System (COMS),” to reflect the mass input transient analysis that assumes an Emergency Core Cooling System (ECCS) centrifugal charging pump (CCP) and the normal charging pump (NCP) capable of injecting into the reactor coolant system (RCS) when TS 3.4.12 is applicable. The proposed amendment would additionally revise TS Table 3.3.1-1, “Reactor Trip System Instrumentation,” to remove unnecessary page number references.

Basis for proposed no significant hazards consideration determination: As required by 10 CFR 50.91(a), the licensee has provided its analysis of the issue of no significant hazards consideration, which is presented below:

1. Does the proposed amendment involve a significant increase in the probability or consequences of an accident previously evaluated?

Response: No.

The TS 3.4.12 Limiting Condition for Operation provides RCS overpressure protection by restricting coolant input capability and providing adequate pressure relief capability during applicable Modes. Analyses have demonstrated that one power-operated relief valve (PORV) or one residual heat removal (RHR) suction relief valve or an RCS vent of at least 2.0 square inches is capable of limiting the RCS pressure excursions below the COMS limits which are based on the pressure-temperature limits of 10 CFR [Part] 50, Appendix G. The analyzed mass transient for COMS is based on an assumption that one ECCS CCP and the NCP are both capable of injection to the RCS.

The NRC has previously evaluated the allowance for an ECCS CCP and the NCP being capable of injecting into the RCS during the TS 3.4.12 Modes of Applicability. In the safety evaluation dated April 2, 1998 related to the Callaway Plant, Unit 1, Amendment No. 124, the NRC concluded:

The mass input transient analysis assumes simultaneous injection of both a centrifugal charging pump and the `normal' charging pump into the water-solid RCS while the RHRS [residual heat removal system] and the letdown line are isolated.

In the same safety evaluation, the NRC further concluded that the change to TS Bases allowing the NCP to inject to the RCS during COMS applicability was consistent with the TS LCO and “therefore allows a centrifugal charging pump and the 'normal' charging pump to be operable under these modes of operation.”

The proposed change clarifies TS 3.4.12 to allow an ECCS CCP and the NCP to be capable of injecting into the RCS during low RCS pressures and temperatures, consistent with Callaway's NRC-approved licensing basis, and also removes unnecessary page number references from TS Table 3.3.1-1. The proposed change is thus an editorial one that does not involve a change to the design or operation of the plant, including the plant's safety analysis.

Accordingly, the proposed change does not adversely affect accident initiators or precursors nor does it alter any design assumptions, conditions, or allowed configurations of the facility. In addition, the proposed change does not affect the manner in which the plant is operated and maintained. Finally, the proposed change does not adversely affect the ability of structures, systems and components (SSC) to perform their intended safety function to mitigate the consequences of an initiating event within the assumed acceptance limits, nor does it increase the types and amounts of radioactive effluent that may be released offsite or significantly increase individual or cumulative occupational/public radiation exposure.

Therefore, the proposed change does not involve a significant increase in the probability or consequences of an accident previously evaluated.

2. Does the proposed amendment create the possibility of a new or different kind of accident from any accident previously evaluated?

Response: No.

As noted in the response to question 1, the proposed change will not physically alter the plant (i.e., no new or different type of equipment will be installed), nor does it change the methods governing normal plant operation. Accordingly, the proposed change does not introduce new accident initiators or impact assumptions made in the safety analysis.

Therefore, the proposed change does not create the possibility of a new or different kind of accident from any previously evaluated.

3. Does the proposed amendment involve a significant reduction in a margin of safety?

Response: No.

The proposed change does not alter the manner in which safety limits, limiting safety system settings or limiting conditions for operation are determined, nor are the safety analysis acceptance criteria impacted by this change. The intent of the proposed change is for TS 3.4.12 to continue to reflect the provisions and limitations of the mass transient analysis that was performed for ensuring cold overpressure protection of the RCPB [reactor coolant pressure boundary] and which is already part of the NRC-approved licensing basis for the facility. Consequently, there is no change to the margin of safety, and the proposed change will not result in plant operation or a configuration that is outside the design basis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street NW., Washington, DC 20037.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Accessing Information and Submitting Comments” section of this document.

DTE Electric Company, Docket No. 50-341, Fermi 2, Monroe County, Michigan

Date of application for amendment: January 11, 2013, as supplemented by letter dated September 27, 2013.

Brief description of amendment: The amendment revised the Fermi 2 Updated Final Safety Analysis Report to describe the methodology and results of the analysis performed to evaluate the protection of the plant's structures, systems and components from tornado-generated missiles. The analysis utilized a probabilistic approach implemented through the application of the TORMIS computer code.

Date of issuance: March 10, 2014.

Effective date: As of the date of issuance and shall be implemented within 60 days of issuance.

Amendment No.: 197.

Facility Operating License No. NPF-43: Amendment revised the Updated Final Safety Analysis Report.

Date of initial notice in Federal Register: March 19, 2013 (78 FR 16880). The supplemental letter dated September 27, 2013, provided additional information that clarified the application, did not expand the scope of the application as originally noticed, and did not change the staff's original proposed no significant hazards consideration determination as published in the Federal Register.

The Commission's related evaluation of the amendment is contained in a Safety Evaluation dated March 10, 2014.

No significant hazards consideration comments received: No.

Entergy Gulf States Louisiana, LLC, and Entergy Operations, Inc., Docket No. 50-458, River Bend Station, Unit 1, West Feliciana Parish, Louisiana

Date of amendment request: July 16, 2013.

Brief description of amendment: The amendment adopts Technical Specifications Task Force (TSTF) Change Traveler TSTF-535, Revision 0, “Revise Shutdown Margin Definition to Address Advanced Fuel Designs.” The Shutdown Margin (SDM), the amount of reactivity by which the reactor is subcritical, is calculated under the conservative conditions that the reactor is Xenon-free, the most reactive control rod is outside the reactor core, and the moderator temperature produces the maximum reactivity. For standard fuel designs, maximum reactivity occurs at a moderator temperature of 68 degrees Fahrenheit (°F), which is reflected in the temperature specified in the Technical Specifications (TSs). New, advanced Boiling Water Reactor fuel designs can have a higher reactivity at moderator shutdown temperatures above 68 °F. Therefore, consistent with TSTF-535, Revision 0, the amendment modified the TSs to require the SDM to be calculated at whatever temperature produces the maximum reactivity (i.e., temperatures at or above 68 °F). This TS improvement is part of the Consolidated Line Item Improvement Process and was requested with no modifications.

Date of issuance: March 5, 2014.

Effective date: As of the date of issuance and shall be implemented 60 days from the date of issuance.

Amendment No.: 180.

Facility Operating License No. NPF-47: The amendment revised the Facility Operating License and Technical Specifications.

Date of initial notice in Federal Register: August 20, 2013 (78 FR 51226).

The Commission's related evaluation of the amendment is contained in a Safety Evaluation dated March 5, 2014.

No significant hazards consideration comments received: No.

Exelon Generation Company, LLC, Docket Nos. STN 50-456 and STN 50-457, Braidwood Station, Units 1 and 2, Will County, Illinois

Date of application for amendment: October 10, 2013.

Brief description of amendment: The change revises the date for the performance of the Braidwood Station, Unit 2, Type A or integrated containment leakage rate test (ILRT) described in Technical Specification 5.5.16, “Containment Leakage Rate Testing Program.” from “no later than May 4, 2014,” to “prior to entering MODE 4 at the start of Cycle 18.” Additionally, a requirement is established for Braidwood Station, Unit 2, to exit the MODEs of applicability for containment as described in Technical Specification 3.6.1, “Containment” (i.e., MODEs 1-4), no later than May 4, 2014.

Date of issuance: March 19, 2014.

Effective date: As of the date of issuance and shall be implemented within 14 days.

Amendment Nos.: 175 and 175.

Facility Operating License Nos. NPF-37 and NPF-66: The amendment revised the Facility Operating Licenses and Technical Specifications.

Date of initial notice in Federal Register: December 10, 2013 (78 FR 74183).

The Commission's related evaluation of the amendments is contained in a Safety Evaluation dated March 19, 2014.

No significant hazards consideration comments received: No.

NextEra Energy Seabrook, LLC, Docket No. 50-443, Seabrook Station, Unit 1, Rockingham County, New Hampshire

Date of amendment request: March 13, 2013, supplemented August 8, 2013, and November 22, 2013.

Description of amendment request: The amendment revised the Seabrook Technical Specifications (TSs). The amendment modifies the circuitry that initiates high-head safety injection by adding a new permissive, cold leg injection permissive (P-15). This permissive prevents opening of the high-head safety injection valves until reactor coolant system pressure decreases to the P-15 set point.

Date of issuance: March 6, 2014.

Effective date: As of its date of issuance and shall be implemented within 615 days.

Amendment No.: 140.

Facility Operating License No. NPF-86: The amendment revised the License and TSs.

Date of initial notice in Federal Register: April 30, 2013 (78 FR 25315). The supplements dated August 8, 2013, and November 22, 2013, provided additional information that clarified the application, did not expand the scope of the application as originally noticed, and did not change the staff's original proposed no significant hazards consideration determination as published in the Federal Register.

The Commission's related evaluation of the amendment is contained in a Safety Evaluation dated March 6, 2014.

No significant hazards consideration comments received: No.

Nine Mile Point Nuclear Station, LLC, Docket No. 50-410, Nine Mile Point Nuclear Station, Unit 2 (NMP2), Oswego County, New York

Date of application for amendment: July 5, 2013, as supplemented by letter dated December 6, 2013.

Brief description of amendment: The amendment included to NMP2 Technical Specification (TS) 3.1.7, “Standby Liquid Control (SLC) System,” to increase the isotopic enrichment of boron-10 in the sodium pentaborate solution utilized in the SLC System and decrease the SLC System tank volume. The following are the changes to the NMP2 TS 3.1.7, “Standby Liquid Control (SLC) System:”

• Revise the acceptance criterion in [Surveillance Requirement] SR 3.1.7.10 by increasing the sodium pentaborate boron-10 enrichment requirement from ≥ 25 atom percent to ≥ 92 atom percent, and make a corresponding change in TS Figure 3.1.7-1, “Sodium Pentaborate Solution Volume/Concentration Requirements.”

• Revise TS Figure 3.1.7-1 to account for the decrease in the minimum volume of the SLC system tank. At a sodium pentaborate concentration of 13.6% the minimum volume changes from 4,558.6 gallons to 1,600 gallons. At a sodium pentaborate concentration of 14.4%, the minimum volume changes from 4,288 gallons to 1,530 gallons.

Date of issuance: March 14, 2014.

Effective date: As of the date of issuance to be implemented prior to the startup from the spring 2014 NMP2 refueling outage.

Amendment No.: 143.

Renewed Facility Operating License No. NPF-69: Amendment revised the License and Technical Specifications.

Date of initial notice in Federal Register: September 3, 2013 (78 FR 54284). The supplement dated December 6, 2013, provided additional information that clarified the application, did not expand the scope of the application as originally noticed, and did not change the Nuclear Regulatory Commission (NRC) staff's initial proposed no significant hazards consideration determination as published in the Federal Register.

The Commission's related evaluation of the amendment is contained in a Safety Evaluation dated March 14, 2014.

No significant hazards consideration comments received: No.

South Carolina Electric and Gas Company, South Carolina Public Service Authority, Docket No. 50-395, Virgil C. Summer Nuclear Station, Unit 1, Fairfield County, South Carolina

Date of application for amendment: April 3, 2013.

Brief description of amendment: This amendment revised the control room emergency filtration system Technical Specification (TS) 3/4.7.6.

Date of issuance: March 11, 2014.

Effective date: This license amendment is effective as of the date of its issuance.

Amendment No.: 197.

Renewed Facility Operating License No. NPF-12: Amendment revised the License.

Date of initial notice in Federal Register: August 6, 2013 (78 FR 47791).

The Commission's related evaluation of the amendment is contained in a Safety Evaluation dated March 11, 2014.

No significant hazards consideration comments received: No.

Dated at Rockville, Maryland, this 24th day of March 2014.
For the Nuclear Regulatory Commission.
Michele G. Evans,
Director, Division of Operating Reactor Licensing, Office of Nuclear Reactor Regulation.

[FR Doc. 2014-06956 Filed 3-31-14; 8:45 am]

BILLING CODE 7590-01-P